DEPARTMENT OF EDUCATION

[Docket ID ED-2013-IES-0151]

Request for Information To Gather Technical Expertise Pertaining to Data Elements, Metrics, Data Collection, Weighting, Scoring, and Presentation of a Postsecondary Institution Ratings System

AGENCY: National Center for Education Statistics, Institute of Education Sciences, Department of Education.

ACTION: Request for information.

SUMMARY: To assist the Department of Education (Department) in its efforts to develop a Postsecondary Institution Ratings System (PIRS), the National Center for Education Statistics (NCES) invites the submission of information about data elements, metrics, methods of data collection, methods of weighting or scoring, and presentation frameworks for a PIRS for assessing the performance of institutions of higher education (IHEs) and advancing institutional accountability while also enhancing consumer access to useful information.

DATES: Written submissions must be received by the Department on or before January 31, 2014.

ADDRESSES: Submit your comments through the Federal eRulemaking Portal or via postal mail, commercial delivery, or hand delivery. We will not accept comments by fax or by email. To ensure that we do not receive duplicate copies, please submit your comments only one time. In addition, please include the Docket ID and the term “Postsecondary Institution Ratings response” at the top of your comments.

• Federal eRulemaking Portal: Go to http://www.regulations.gov to submit your comments electronically. Information on using Regulations.gov, including instructions for accessing agency documents, submitting comments, and viewing the docket, is available on the site under “Are you new to this site?”

• Postal Mail, Commercial Delivery, or Hand Delivery: If you mail or deliver your comments, address them to Richard Reeves, National Center for Education Statistics, Attention: Postsecondary Institution Ratings System RFI, U.S. Department of Education, 1990 K Street NW., 8th Floor, Washington, DC 20006.

• Privacy Note: The Department's policy for comments received from members of the public (including comments submitted by mail, commercial delivery, or hand delivery) is to make these submissions available for public viewing in their entirety on the Federal eRulemaking Portal at http://www.regulations.gov. Therefore, commenters should be careful to include only information that they wish to make publicly available on the Internet.

Submission of Proprietary Information: Given the subject matter, some comments may include proprietary information as it relates to confidential commercial information. The Freedom of Information Act defines “confidential commercial information” as information the disclosure of which could reasonably be expected to cause substantial competitive harm. You may wish to request that we not disclose what you regard as confidential commercial information.

To assist us in making a determination on your request, we encourage you to identify any specific information in your comments that you consider confidential commercial information. Please list the information by page and paragraph numbers.

This is a request for information (RFI) only. This RFI is not a request for proposals (RFP) or a promise to issue an RFP or a notice inviting applications (NIA). This RFI does not commit the Department to contract for any supply or service whatsoever. Further, the Department is not seeking proposals and will not accept unsolicited proposals. The Department will not pay for any information or administrative costs that you may incur in responding to this RFI. If you do not respond to this RFI, you may still apply for future contracts and grants. The Department posts RFPs on the Federal Business Opportunities Web site (http://www.fbo.gov). The Department announces grant competitions in the Federal Register (http://www.gpo.gov/fdsys). It is your responsibility to monitor these sites to determine whether the Department issues an RFP or NIA after considering the information received in response to this RFI. The documents and information submitted in response to this RFI become the property of the U.S. Government and will not be returned.

FOR FURTHER INFORMATION CONTACT: Richard Reeves, (202) 502-7436, Richard.Reeves@ed.gov. If you use a telecommunications device for the deaf (TDD) or a text telephone (TTY), call the Federal Relay Service (FRS), toll free, at 1-800-877-8339.

SUPPLEMENTARY INFORMATION:

Background

A postsecondary education is among the most important investments students can make in their own futures. However, obtaining such an education has grown increasingly expensive. The average tuition at a public four-year college has increased by more than 300 percent over the past three decades, while incomes for typical families grew by only 16 percent, according to Integrated Postsecondary Education Data System (IPEDS) and Bureau of Labor Statistics data. Declining State funding has moved an increasing share of the cost of postsecondary education from State taxpayers to students; tuition has almost doubled as a share of public college revenues over the past 25 years, from 25 percent to 47 percent. While a college education remains a valuable investment overall, the average borrower with a bachelor's degree now graduates with more than $29,400 in debt, according to 2012 data from the National Postsecondary Student Aid Study. Moreover, college completion rates are relatively low: only 58 percent of full-time students who began college in 2004 earned a four-year degree within six years. Loan default rates are rising, and many young adults are burdened with debt as they seek to start a family, buy a home, launch a business, or save for retirement.

The Department provides over $150 billion each year in student financial aid, while States collectively invest over $70 billion in public colleges and universities. Almost all of these resources are allocated based on the number of students who enroll, not the number of students who earn degrees, how much students learn, or the return on investment to the students and society for the cost of their degrees.

In August 2013, President Obama announced a new agenda that will increase college value and affordability for American families. As part of this plan, the President has directed the Department to develop and publish a new college ratings system before the 2015-16 school year.

The ratings system will help students compare the value and affordability of colleges and encourage colleges to improve. The ratings will be based upon such measures as:

• Access, such as percentage of students receiving Pell grants;

• Affordability, such as average cost of attendance, scholarships, and student loan debt; and

• Outcomes, such as graduation and transfer rates, including those for Pell grant recipients, graduate earnings, and advanced degree attainment of graduates.

The Department intends, through these ratings, to compare colleges with similar missions and identify colleges that do the most to help students from disadvantaged and underrepresented backgrounds, as well as colleges that are improving their performance. The ratings system is not intended to rank institutions. Instead, it will provide information about an institution's performance on a specific measure or a specific set of measures. In the upcoming reauthorization of the Higher Education Act, the President will propose allocating financial aid based upon these college ratings by 2018.

Introduction

The Department invites IHEs and systems of IHEs, their faculty and staff, students and parents, college counselors, research and data experts, State higher education agencies, associations, advocacy groups, think tanks, publishers, experts in ratings in other industries, consortia of any of the above entities, or any other interested party, to provide information about potential data elements, metrics, methods of data collection and analysis, methods of weighting or scoring, and presentation frameworks of a PIRS that will be used to advance institutional accountability, enhance transparency, and improve consumer decision-making. Organizations that have developed, or are developing, ratings systems for postsecondary institutions or other non-education entities are also strongly encouraged to respond. This RFI is specifically inquiring into the following: (1) Metrics necessary for rating the performance of postsecondary institutions using both data elements currently available to the Department and other Federal agencies, and data elements not currently available to the Department or other Federal agencies but that could be collected in the future; (2) empirical methods for weighting, scoring, or otherwise combining the various metrics into a single dimension or a set of dimensions; (3) empirical methods for weighting, scoring, or otherwise adjusting metrics or grouping institutions to ensure appropriate comparison and calibration within the PIRS; (4) options for presenting the information in the PIRS for both accountability and consumer information purposes; and (5) models of ratings systems for entities other than postsecondary institutions. The Department is interested in a PIRS that takes into account information important to the Federal government in promoting college value and affordability, ensuring the integrity of Federal student aid programs, and carrying out its fiduciary responsibility for taxpayer investments in postsecondary education.

Through this RFI, the Department is interested in suggestions that address the challenges in measuring the affordability and value of postsecondary education. The Department is interested in specific examples of ratings systems that best measure postsecondary institutions' value to students and the Federal taxpayer. The Department is also interested in specific examples of empirical methods for taking into account the diversity of institutional missions and for comparing performance across similar institutions. In particular, the Department is interested in how such factors as institutional resources (e.g., State investment in postsecondary education) and student characteristics (e.g., postsecondary readiness) should be addressed as part of the ratings system. Finally, the Department is interested in specific suggestions for minimizing unintended consequences such as the undervaluing of certain kinds of postsecondary credentials or learning experiences or creating disincentives for institutions to enroll underrepresented student populations.

Information gathered through this RFI will inform the development of a PIRS designed to advance institutional accountability for the investment of Federal dollars in IHEs while at the same time improving public information about college access, affordability, and outcomes for students and families.

In addition to significant outreach that the Department is conducting to communities and stakeholder groups throughout the country, development of a PIRS will employ three specific steps. First, NCES is issuing this RFI to collect information about data elements, metrics, methods of data collection, methods of weighting or scoring, and presentation frameworks. We pose a series of questions to which we invite interested parties and members of the public to respond. Second, NCES will host a symposium of external experts to discuss and deliberate on these issues in greater depth. Third, NCES will publish a summary of the recommendations developed from the RFI and the symposium, as well as other resources identified by symposium participants, on the Department's college affordability and completion Web site (http://www.ed.gov/college-affordability).

Context for Responses

The primary goal of this RFI is to gather information that will help the Department develop a PIRS that advances the accountability of postsecondary institutions and that provides enhanced transparency and consumer information. We have developed several questions to guide input. Because the questions are only guides, you do not have to respond to the specific questions and you may provide comments in a format of your choice. However, we strongly recommend that you provide specific examples in your responses. You may also provide information that is not responsive to a particular question but may be helpful.

Questions

1. Questions Regarding Data Elements, Metrics, and Data Collection

1.1. Using data currently collected by the Department or other Federal agencies, and given the Administration's focus on access, affordability, and outcomes, what metrics are possible for rating the performance of postsecondary institutions? What metrics are appropriate for consumer information purposes? What metrics are appropriate for accountability purposes? What metrics are appropriate for consumer information and accountability purposes? For each metric, include information about data sources, quality, availability, and limitations.

1.2 Using data not currently collected by the Department or other Federal agencies, and given the Administration's focus on access, affordability, and outcomes, what metrics are possible for rating the performance of postsecondary institutions? What metrics are appropriate for consumer information purposes? What metrics are appropriate for accountability purposes? What metrics are appropriate for consumer information and accountability purposes? What is the best way to collect data that will inform those metrics? What are the challenges in collecting such data?

1.3 What metrics should apply to all types of postsecondary institutions?

1.4 What metrics should apply to institutions with specific missions? How should those missions be defined?

1.5 How should existing limitations in Federal postsecondary data and data collections be addressed?

2. Questions Regarding Weighting or Scoring

2.1 What empirical methods for weighting, scoring, or otherwise reducing a large and complex amount of information into a single dimension or a set of dimensions should be used in a PIRS?

2.2 What empirical methods for weighting or scoring are appropriate for consumer information purposes?

2.3 What empirical methods for weighting or scoring are appropriate for accountability purposes?

2.4 What empirical methods for weighting or scoring are appropriate for both purposes?

2.5 How should metrics be adjusted to account for institutional differences, such as mission, and student characteristics? How should those characteristics be defined?

2.6 How should metrics be adjusted to reflect institutional improvement over time?

3. Questions Regarding the Development of Comparison Groups

3.1 What empirical methods for developing institutional comparison groups are appropriate for consumer information purposes?

3.2 What empirical methods for developing institutional comparison groups are appropriate for accountability purposes?

3.3 What empirical methods for developing institutional comparison groups are appropriate for both purposes?

3.4 Should students be disaggregated for comparison purposes and if so, by what sub-groups?

4. Questions Regarding the Presentation of Ratings Information

4.1 What models for presenting institutional ratings are appropriate for consumer information purposes?

4.2 What models for presenting institutional ratings are appropriate for accountability purposes?

4.3 What models for presenting institutional ratings are appropriate for motivating consumers to make choices that promote institutional accountability?

4.4 How could the PIRS strengthen States' and others' oversight and fiduciary responsibility for postsecondary education?

5. Questions Regarding Existing Ratings Systems

5.1 What are examples of systems used to rate the performance of other types of entities or services that could be used to inform the development of a PIRS?

5.2 What examples of existing ratings systems used to rate the performance of postsecondary institutions could be used to inform the development of a PIRS? What lessons learned from existing systems could inform a PIRS?

Accessible Format: Individuals with disabilities can obtain this document in an accessible format (e.g., braille, large print, audiotape, or compact disc) on request from Warren Farr at (202) 377-4380 or Warren.Farr@ed.gov.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Authority: 20 U.S.C. 3402(4).

John Q. Easton,
Director, Institute of Education Sciences.

[FR Doc. 2013-30011 Filed 12-16-13; 8:45 am]

BILLING CODE 4000-01-P